ENVIRONMENTAL PROTECTION AGENCY

40 CFR Part 1039

Control of Emissions From New and In-Use Nonroad Compression-Ignition Engines

CFR Correction

In Title 40 of the Code of Federal Regulations, Part 1000 to End, revised as of July 1, 2009, on pages 94 and 95, in § 1039.102, correct the headings of Tables 2 through 6 to read as follows:

§ 1039.102 What exhaust emission standards and phase-in allowances apply for my engines in model year 2014 and earlier?

* * * * *

Table 2 of § 1039.102—Interim Tier 4 Exhaust Emission Standards (g/kW-hr): 19 ≤ kW < 37

* * * * *

Table 3 of § 1039.102—Interim Tier 4 Exhaust Emission Standards (g/kW-hr): 37 ≤ kW < 56

* * * * *

Table 4 of § 1039.102—Interim Tier 4 Exhaust Emission Standards (g/kW-hr): 56 ≤ kW < 75

* * * * *

Table 5 of § 1039.102—Interim Tier 4 Exhaust Emission Standards (g/kW-hr): 75 ≤ kW < 130

* * * * *

Table 6 of § 1039.102—Interim Tier 4 Exhaust Emission Standards (g/kW-hr): 130 ≤ kW < 560

* * * * *

[FR Doc. 2010-15828 Filed 6-28-10; 8:45 am]

BILLING CODE 1505-01-D